SECURITIES AND EXCHANGE COMMISSION

[File No. 500-1]

Environmental Energy Services, Inc., IDI Global, Inc., Inform Worldwide Holdings, Inc., Iptimize, Inc., NGEN, Inc. (a/k/a Nanogen, Inc.), and Patron Systems, Inc.; Order of Suspension of Trading

January 7, 2014.

It appears to the Securities and Exchange Commission that there is a lack of current and accurate information concerning the securities of Environmental Energy Services, Inc. because it has not filed any periodic reports since the period ended September 30, 2008.

It appears to the Securities and Exchange Commission that there is a lack of current and accurate information concerning the securities of IDI Global, Inc. because it has not filed any periodic reports since the period ended September 30, 2008.

It appears to the Securities and Exchange Commission that there is a lack of current and accurate information concerning the securities of Inform Worldwide Holdings, Inc. because it has not filed any periodic reports since the period ended December 31, 2007.

It appears to the Securities and Exchange Commission that there is a lack of current and accurate information concerning the securities of Iptimize, Inc. because it has not filed any periodic reports since the period ended December 31, 2008.

It appears to the Securities and Exchange Commission that there is a lack of current and accurate information concerning the securities of NGEN, Inc. (a/k/a Nanogen, Inc.) because it has not filed any periodic reports since the period ended September 30, 2008.

It appears to the Securities and Exchange Commission that there is a lack of current and accurate information concerning the securities of Patron Systems, Inc. because it has not filed any periodic reports since the period ended March 31, 2007.

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 7, 2014, through 11:59 p.m. EST on January 21, 2014.

By the Commission.
Jill M. Peterson,
Assistant Secretary.

[FR Doc. 2014-00226 Filed 1-7-14; 4:15 pm]

BILLING CODE 8011-01-P